DEPARTMENT OF JUSTICE

Drug Enforcement Administration

Taylor Animal Shelter; Order

On October 4, 2017, the Acting Assistant Administrator, Diversion Control Division, Drug Enforcement Administration, issued an Order to Show Cause proposing the revocation of the DEA Certificate of Registration issued to Taylor Animal Shelter of Taylor, Michigan (Respondent). GX 1, at 1. The basis of the proposed action was that, on June 30, 2017, Respondent's Michigan Controlled Substance Sodium Pentobarbital Facility license lapsed, and thus, it was “currently without authority to handle controlled substances in the State of Michigan, the [S]tate in which [it is] registered with the” Agency. Id.; see also 21 U.S.C. § 824(a)(3).

Following service of the Show Cause Order, Respondent submitted a timely written statement of position with exhibits while waiving its right to a hearing. In its position statement, Respondent represented that its state controlled substances registration was renewed on October 30, 2017. Resp.'s Statement at 3, ¶ 10. Respondent attached a copy of a document which states that it is a “Sodium Pentobarbital Permit for Practice of Animal Euthanasia (Facility Permit).” Resp.'s Statement, at Exhibit E. While much of this document is unreadable, and it is unclear from the document when this permit was issued or expires, Respondent provided an affidavit of the Operations Manager for the Department of Public Works of the City of Taylor, Michigan, which states that on October 30, 2017, he received the renewed state license for the facility. Affidavit of Matt Bonza, at 2. Moreover, the Government does not dispute that the facility has re-obtained state authority to dispense controlled substances. Request for Order Dismissing Order to Show Cause, at 2.

As the Government acknowledges, the sole basis for seeking revocation of Respondent's DEA registration was “its lack of state authority to handle controlled substances” and “this ground for revocation no longer exists.” Id. The Government thus seeks an order dismissing the Order to Show Cause. Id. at 3. Accordingly, I will grant the Government's request and dismiss the Order to Show Cause. Id.

Order

Pursuant to the authority vested in me by 21 U.S.C. 824 and 28 CFR 0.100(b), I order that the Order to Show Cause issued to Taylor Animal Shelter be, and it hereby is, dismissed. This Order is effective immediately.

Dated: February 6, 2018.
Robert W. Patterson,
Acting Administrator.

[FR Doc. 2018-03298 Filed 2-16-18; 8:45 am]

BILLING CODE 4410-09-P